DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee Meeting on Wednesday, March 23, 2016, to consider actions affecting New England fisheries in the exclusive economic zone (EEZ). Recommendations from this group will be brought to the full Council for formal consideration and action, if appropriate.

DATES: The meeting will be held on Wednesday, March 23, 2016 at 9:30 a.m.

ADDRESSES: The meeting will be held at the Crowne Plaza, 81 Greenwich Ave., Warwick, RI 02886; telephone: (401) 732-6000; fax: (401) 732-0261.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review the general workload for 2016 based on Council priorities and will discuss recommendations for the Council to consider for setting overall five year research priorities. The Committee will also review outcomes from the recent scallop workshop and may discuss recommendations for the Council to consider in future actions. The Committee will review a work plan for the required five year report that will evaluate the limited access general category IFQ program. Other business may be discussed.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 2, 2016.
Tracey L. Thompson,
Acting Deputy Director, Office of Sustainable Fisheries, National Marine Fisheries Service.

[FR Doc. 2016-04990 Filed 3-4-16; 8:45 am]

BILLING CODE 3510-22-P